DEPARTMENT OF COMMERCE

International Trade Administration

Vanderbilt University; Notice of Decision on Application for Duty-Free Entry of Scientific Instrument

This decision is made pursuant to section 6(c) of the Educational, Scientific, and Cultural Materials Importation Act of 1966 (Pub. L. 89-651, 80 Stat. 897; 15 CFR part 301). Related records can be viewed between 8:30 a.m. and 5 p.m. in Suite 4100W, U.S. Department of Commerce, Franklin Court Building, 1099 14th Street, NW., Washington, DC.

Docket Number: 03-010. Applicant: Vanderbilt University, Nashville, TN 37203. Instrument: Scanning Near-field Optical Microscope, Model AlphaSNOM. Manufacturer: Wissenschaftliche Instrumente und Technologie GmbH, Germany. Intended Use: See notice at 68 FR 14197, March 24, 2003.

Comments: None received. Decision: Approved. No instrument of equivalent scientific value to the foreign instrument, for such purposes as it is intended to be used, is being manufactured in the United States. Reasons: The foreign instrument provides: (1) A standard invertible microscope platform with multiple connections for lasers and detection ports, (2) resolution of 80 nm, (3) capability of switching readily among a wide variety of operating modes with minimal sample rearrangements and (4) optimal flexibility for operation in a multi-user environment. A university research institute advised May 1, 2003, that (1) these capabilities are pertinent to the applicant's intended purpose and (2) it knows of no domestic instrument or apparatus of equivalent scientific value to the foreign instrument for the applicant's intended use.

We know of no other instrument or apparatus of equivalent scientific value to the foreign instrument which is being manufactured in the United States.

Gerald A. Zerdy,
Program Manager, Statutory Import Programs Staff.

[FR Doc. 03-11618 Filed 5-8-03; 8:45 am]

BILLING CODE 3510-DS-P